DEPARTMENT OF DEFENSE

Department of the Army; Corps of Engineers

Intent to Prepare a Draft Environmental Impact Statement for the PCS Phosphate Mine Continuation, Aurora, Beaufort County, NC

Correction

In notice document 02-27720 beginning on page 66386 in the issue of Thursday, October 31, 2002, make the following corrections:

1. On page 66386, in the third column, under the heading FOR FURTHER INFORMATION CONTACT, in the sixth line, “DC” should read, “NC”.

2. On page 66387, in the first column, in the table, in the column “Proposed impacts”, in number 5., “Scrub-Scrub” should read, “Scrub-Shrub”.

[FR Doc. C2-27720 Filed 11-6-02; 8:45 am]

BILLING CODE 1505-01-D